DEPARTMENT OF DEFENSE

Department of the Army

Draft Programmatic Environmental Impact Statement (EIS) for Modernization of Training Infrastructure at Pōhakuloa Training Area (PTA), Hawai`i

AGENCY: Department of the Army, DoD.

ACTION: Notice of Availability.

SUMMARY: The United States Army Pacific and United States Army Garrison, Hawai`i propose to modernize training ranges, training support infrastructure (e.g., roads and utilities), and training support facilities in the cantonment area at PTA to meet the training requirements of military units in Hawai`i. This modernization would improve the quality of training, make more efficient use of facilities at PTA and reduce a current shortfall in collective (group) live-fire training capabilities for units stationed in Hawai`i. The shortfall has been created by ranges that do not meet current Army design standards or are otherwise not resourced to train platoon and company-sized units when they deploy with their battalions and brigades to PTA to conduct semiannual training. In addition, much of the training support facilities and training support infrastructure at PTA are old, are operating beyond their useful life and do not meet current DoD design standards as defined in the Military Standard 3007 Unified Facilities Criteria and Unified Facilities Guide Specifications.

The Army provides a list of modernization projects that could be built in the reasonably foreseeable future within the Draft Programmatic EIS. The modernization list also includes requirements from the U.S. Marine Corps (another major user of PTA), with these projects being evaluated in the cumulative impacts section of the Draft Programmatic EIS. These projects are essential to support modernization of PTA, and to ensure that the Army and other users of PTA continue to have ready access to sustainable training ranges, training support infrastructure (e.g., roads and utilities), and training support facilities in the cantonment area.

The Draft Programmatic EIS specifically addresses the requirement for an Infantry Platoon Battle Area (IPBA) at PTA that would include an Infantry Platoon Battle Course (IPBC), Live-fire Shoothouse, and Military Operations on Urban Terrain (MOUT) facility. Other projects on the modernization list are not fully mature because they are still in the planning process and are not yet ready for decision. The Army plans to tier from this Draft Programmatic EIS to address those projects at a time when design alternatives are ready for decision. The IPBA is the only modernization project ready for decision presently.

DATES: The public comment period will end 45 days after publication of the notice of availability in the Federal Register by the U.S. Environmental Protection Agency.

ADDRESSES: Written comments may be addressed to PTA PEIS, P.O. Box 514, Honolulu, HI 96809; facsimiles may be sent to (808) 545-6808; and emails may be addressed to PTAPEIS@bah.com.

FOR FURTHER INFORMATION CONTACT: USAG-HI Public Affairs Office by phone at (808) 656-3152 Monday through Friday 9 a.m. to 5 p.m. HST.

SUPPLEMENTARY INFORMATION: The Army examined the potential environmental impacts from siting and operating the IPBA at either the Western Range Area of PTA (preferred alternative), Charlie's Circle, or near the southwest side of Range 20; or to not build and operate the IPBA at all.

An IPBC is used to train and test infantry platoons, either mounted or dismounted, on the skills necessary to conduct tactical movement techniques, and to detect, identify, engage, and defeat stationary and moving infantry and armor targets in a tactical array. The Live-fire Shoothouse provides Army unit leaders with a facility to train and evaluate the unit during a live-fire exercise. The MOUT facility includes the construction or placement of approximately 24 modular structures to replicate small villages for units to complete training tasks in an urban/semi-urban operating environment.

Each proposed IPBA location would be sited within the existing impact area at PTA. For all alternatives (with the exception of No Action), the IPBA would be available 242 training days per year.

Some of the major potential impacts discussed for the proposed IPBA are associated with the possible effects to air quality, historic resources, and threatened and endangered species; encountering munitions and explosives of concern; and igniting wildfires. The Army is formally consulting with the Hawai`i State Historic Preservation Division and other consulting parties, and the U.S. Fish and Wildlife Service to determine the extent of impacts to cultural and biological resources, respectively.

The other range-related modernization projects would have impacts similar to the IPBA; and, in addition, adverse construction-related impacts are possible in the cantonment area related to air quality, stormwater, and noise. The Army will examine all of these potential impacts more thoroughly in future project-specific National Environmental Policy Act documents.

Copies of the Draft Programmatic EIS are available at the following libraries: Hilo Public Library, 300 Waianuenue Avenue, Hilo; Kailua-Kona Public Library, 75-138 Hualalai Road, Kailua-Kona; Thelma Parker Memorial Public and School Library, 67-1209 Mamalahoa Highway, Kamuela; and Hawai`i State Library, 478 South King Street, Honolulu. The Draft Programmatic EIS may also be accessed online at http://www.garrison.hawaii.army.mil/PTAPEIS/.

Public hearings on the Draft Programmatic EIS will be held on the Hawai`i Island. Notification of the times and locations for the public hearings will be published in local newspapers.

Brenda S. Bowen,
Army Federal Register Liaison Officer.

[FR Doc. 2011-26579 Filed 10-13-11; 8:45 am]

BILLING CODE 3710-08-P